FEDERAL DEPOSIT INSURANCE CORPORATION

Sunshine Act Meeting

Pursuant to the provisions of the “Government in the Sunshine Act” (5 U.S.C. 552b), notice is hereby given that the Federal Deposit Insurance Corporation's Board of Directors met in open session at 10:00 a.m. on Tuesday, November 20, 2018, to consider the following matters:

Summary Agenda

Disposition of minutes of previous Board of Directors' Meetings.

Memorandum and resolution re: Regulatory Capital Rule: Capital Simplification for Qualifying Community Banking Organizations.

Memorandum and resolution re: Notice of Proposed Rulemaking to Increase the Appraisal Threshold for Residential Real Estate Transactions, Implement the Residential Rural Exemption, and Require Appropriate Appraisal Review.

Memorandum and resolution re: Final Rule on Transferred OTS Regulations Regarding Fiduciary Powers of State Savings Associations and Consent Requirements for the Exercise of Trust Powers.

Memorandum and resolution re: Final Rule to Revise the FDIC's Regulations Concerning Inflation-Adjusted Maximum Civil Money Penalty Amounts.

Report of actions taken pursuant to authority delegated by the Board of Directors.

Discussion Agenda

Memorandum and resolution re: Notice of Proposed Rulemaking on Proposed Changes to Applicability Thresholds for Regulatory Capital Requirements and Liquidity Requirements.

In calling the meeting, the Board determined, on motion of Director Martin J. Gruenberg, seconded by Director Mick Mulvaney (Acting Director, Consumer Financial Protection Bureau), concurred in by Director Joseph Otting (Comptroller of the Currency), and Chairman Jelena McWilliams, that Corporation business required its consideration of the matters on less than seven days' notice to the public; and that no earlier notice of the meeting than that previously provided on November 14, 2018, was practicable.

The meeting was held in the Board Room located on the sixth floor of the FDIC Building located at 550 17th Street NW, Washington, DC.

Dated: November 20, 2018
Federal Deposit Insurance Corporation.
Robert E. Feldman,
Executive Secretary.

[FR Doc. 2018-25697 Filed 11-20-18; 4:15 pm]

BILLING CODE P